EXPORT-IMPORT BANK

[Public Notice: 2015-6018]

Agency Information Collection Activities: Comment Request

AGENCY: Export-Import Bank of the United States.

ACTION: Submission for OMB Review and Comments Request.

Form Title: EIB 00-02 Annual Competitiveness Report Survey of Exporters and Bankers.

SUMMARY: The Export-Import Bank of the United States (Ex-Im Bank), as a part of its continuing effort to reduce paperwork and respondent burden, invites the general public and other Federal Agencies to comment on the proposed information collection, as required by the Paperwork Reduction Act of 1995.

Ex-Im Bank plans to invite approximately 150 U.S. exporters and commercial lending institutions that have used Ex-Im Bank's short-, medium-, and long-term programs over the previous calendar year with an electronic invitation to participate in the online survey. The proposed survey will ask participants to evaluate the competitiveness of Ex-Im Bank's programs and how the programs compare to those of foreign credit agencies. Ex-Im Bank will use the responses to develop an analysis of the Bank's competitiveness.

The survey can be reviewed at: http://www.exim.gov/sites/default/files/pub/pending/EXIM_Competitiveness_Report_Survey.pdf

DATES: Comments should be received on or before November 30, 2015.

ADDRESSES: Comments may be submitted electronically on WWW.REGULATIONS.GOV or by mail to Michele Kuester, Export-Import Bank of the United States, 811 Vermont Ave. NW., Washington, DC 20571 Attn: OMB 3048-14-01.

SUPPLEMENTARY INFORMATION: Titles and Form Number: EIB 00-02 Annual Competitiveness Report Survey of Exporters and Bankers.

OMB Number: 3048-0004.

Type of Review: Renewal.

Need and Use: The information requested enables Ex-Im Bank to evaluate and assess its competitiveness with the programs and activities of the major OECD official ECAs and to report on the Bank's status in this regard.

The number of respondents: 150.

Estimated time per respondents: 90 minutes.

The frequency of response: Annually.

Annual hour burden: 225 total hours.

Government Expenses

Reviewing time per response: 45 minutes.

Responses per year: 150.

Reviewing time per year: 112.5 hours.

Average Wages per hour: $42.50.

Average cost per year: (time * wages) $4,781.25.

Benefits and overhead: 20%.

Total Government Cost: $5737.5.

Bonita Jones-McNeil,
Program Analyst, Records Management Division.

[FR Doc. 2015-24675 Filed 9-28-15; 8:45 am]

BILLING CODE 6690-01-P